DEPARTMENT OF HOMELAND SECURITY

Coast Guard

33 CFR Part 117

[Docket No. USCG-2012-0517]

Drawbridge Operation Regulations; Merrimack River, Haverhill and West Newbury, MA

AGENCY: Coast Guard, DHS.

ACTION: Notice of temporary deviation from regulations.

SUMMARY: The Commander, First Coast Guard District, has issued a temporary deviation from the regulation governing the operation of the Rocks Village Bridge, mile 12.6, across the Merrimack River between Haverhill and West Newbury, Massachusetts. The deviation is necessary to facilitate bridge rehabilitation and repairs. This deviation allows the bridge to remain in the closed position for 72 hours.

DATES: This deviation is effective from 7 a.m. on July 9, 2012 through 7 a.m. on July 12, 2012.

ADDRESSES: Documents mentioned in this preamble as being available in the docket are part of docket USCG-2012-0517 and are available online at www.regulations.gov, inserting USCG-2012-0517 in the “Keyword” and then clicking “Search.” They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. John McDonald, Project Officer, First Coast Guard District, john.w.mcdonald@uscg.mil or telephone (617) 223-8364. If you have questions on viewing the docket, call Renee V. Wright, Program Manager, Docket Operations, telephone 202-366-9826.

SUPPLEMENTARY INFORMATION: The Rocks Village Bridge, across the Merrimack River, mile 12.6, between Haverhill and West Newbury, Massachusetts, has a vertical clearance in the closed position of 17 feet at mean high water and 23 feet at mean low water. The drawbridge operation regulations are listed at 33 CFR 117.605(c).

The waterway is predominantly transited by small recreational vessels at the location of the Rocks Village Bridge.

The bridge is required to open upon a two hour advance notice as a result of infrequent requests to open the draw.

The owner of the bridge, Massachusetts Department of Transportation, requested a temporary deviation from the regulations to facilitate bridge rehabilitation repairs, replacement of operating machinery, structural steel, and highway deck on the swing span.

Under this temporary deviation the bridge may remain in the closed position from 7 a.m. on July 9, 2012 through 7 a.m. on July 12, 2012. Vessels that can pass under the closed draw may do so at all times.

In accordance with 33 CFR 117.35(e), the bridge must return to its regular operating schedule immediately at the end of the designated time period. This deviation from the operating regulations is authorized under 33 CFR 117.35.

Dated: June 7, 2012.
Gary Kassof,
Bridge Program Manager, First Coast Guard District.

[FR Doc. 2012-15202 Filed 6-20-12; 8:45 am]

BILLING CODE 9110-04-P